DEPARTMENT OF LABOR

Office of Federal Contract Compliance Programs

Notice of Reinstatement of Associated Grocers, Inc.

AGENCY: Office of Federal Contract Compliance Programs, Labor.

ACTION: Notice of Reinstatement, Associated Grocers, Inc.

SUMMARY: This notice advises that Associated Grocers, Inc., has been reinstated as an eligible bidder on Federal contracts and subcontracts. For further information, contact Charles E. James, Sr., Deputy Assistant Secretary for Federal Contract Compliance Programs, U.S. Department of Labor, 200 Constitution Avenue, NW., Room C-3325, Washington, DC 20210 (202-693-0101).

SUPPLEMENTARY INFORMATION: Associated Grocers, Inc., Seattle, Washington, is as of this date, reinstated as an eligible bidder on Federal contracts and subcontracts.

Signed: April 16, 2002, Washington, DC.
Charles E. James, Sr.,
Deputy Assistant Secretary.

[FR Doc. 02-9919 Filed 4-22-02; 8:45 am]

BILLING CODE 4510-CM-M